Proclamation 8010 of April 28, 2006

Law Day, U.S.A., 2006

By the President of the United States of America

A Proclamation

America's legal system is central to protecting the constitutional principles on which our Nation was founded. As we observe Law Day, we celebrate our heritage of freedom, justice, and equality under the law.

This year's Law Day theme, “Liberty Under Law: Separate Branches, Balanced Powers,” honors the wisdom of the separation of powers that the Framers of our Constitution established for the Federal Government. Delegates to the Constitutional Convention recognized the risks that accompany the concentration of power and devised a system in which the Federal Government's authorities are divided among three independent branches. James Madison highlighted the importance of our Constitution's separation of powers when he wrote, “the accumulation of all powers, legislative, executive, and judiciary, in the same hands . . . may justly be pronounced the very definition of tyranny.”

Throughout our Nation's history, we have been reminded repeatedly of the wisdom of the Framers' design. Our system of separation of powers has safeguarded our liberties and helped ensure that we remain a government of laws. Law Day is an occasion for us to celebrate our Constitution and to honor those in the judiciary and legal profession who work to uphold and serve its principles.

NOW, THEREFORE, I, GEORGE W. BUSH, President of the United States of America, in accordance with Public Law 87-20, as amended, do hereby proclaim May 1, 2006, as Law Day, U.S.A. I call upon all the people of the United States to observe this day with appropriate ceremonies and activities. I also call upon Government officials to display the flag of the United States in support of this national observance.

IN WITNESS WHEREOF, I have hereunto set my hand this twenty-eighth day of April, in the year of our Lord two thousand six, and of the Independence of the United States of America the two hundred and thirtieth.

B

[FR Doc. 06-4205

Filed 5-2-06; 8:50 am]

Billing code 3195-01-P